DEPARTMENT OF TRANSPORTATION

Federal Aviation Administration

14 CFR Part 39

[Docket No. FAA-2016-5593; Directorate Identifier 2015-NM-184-AD]

RIN 2120-AA64

Airworthiness Directives; Bombardier, Inc. Airplanes

AGENCY: Federal Aviation Administration (FAA), DOT.

ACTION: Notice of proposed rulemaking (NPRM).

SUMMARY: We propose to supersede Airworthiness Directive (AD) 2015-02-23, for certain Bombardier, Inc. Model CL-600-1A11 (CL-600), CL-600-2A12 (CL-601), and CL-600-2B16 (CL-601-3A, and CL-601-3R Variants) airplanes. AD 2015-02-23 currently requires repetitive inspections for fractured or incorrectly oriented fasteners on the inboard flap hinge-box forward fittings on both wings, and replacement of all fasteners if necessary. The preamble to AD 2015-02-23 explains that we consider the requirements interim action and are considering further rulemaking. We now have determined that further rulemaking is indeed necessary, and that replacement of the fasteners is necessary. This proposed AD would require terminating action to replace the fasteners on the inboard flap hinge-box forward fittings on both wings. We are proposing this AD to detect and correct incorrectly oriented or fractured fasteners, which could result in detachment of the flap hinge-box and the flap surface, and consequent reduced controllability of the airplane.

DATES: We must receive comments on this proposed AD by June 6, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5593; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Branch, ANE-171, FAA, New York Aircraft Certification Office, 1600 Stewart Avenue, Suite 410, Westbury, NY 11590; telephone 516-228-7329; fax 516-794-5531.

SUPPLEMENTARY INFORMATION:

Comments Invited

We invite you to send any written relevant data, views, or arguments about this proposed AD. Send your comments to an address listed under the ADDRESSES section. Include “Docket No. FAA-2016-5593; Directorate Identifier 2015-NM-184-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 20, 2015, we issued AD 2015-02-23, Amendment 39-18092 (80 FR 5670, February 3, 2015) (“AD 2015-02-23”). AD 2015-02-23 requires actions intended to address an unsafe condition on certain Bombardier, Inc. Model CL-600-1A11 (CL-600), CL-600-2A12 (CL-601), and CL-600-2B16 (CL-601-3A, and CL-601-3R Variants) airplanes. AD 2015-02-23 corresponds to Canadian Emergency Airworthiness Directive CF-2013-39R2, dated December 12, 2014 (referred to after this as the Mandatory Continuing Airworthiness Information, or “the MCAI”). The MCAI was issued by Transport Canada Civil Aviation (TCCA), which is the aviation authority for Canada.

The preamble to AD 2015-02-23 explains that we consider the requirements interim action and are considering further rulemaking. We have now determined that further rulemaking is indeed necessary and that, instead of continuing repetitive inspections, replacement of the incorrectly oriented fasteners is necessary. This proposed AD follows from that determination. This proposed AD would require terminating action to replace the fasteners on the inboard flap hinge-box forward fittings on affected wings.

The repetitive inspections can only detect if a fastener head has fractured and sheared off. For incorrectly oriented fasteners, it is not possible to detect whether a crack has already initiated and propagated. The fastener fracture speed is unpredictable due to the variability in the quality of the hole preparation prior to fastener installation and whether there was any misalignment in the installation of the fasteners. The failure of two fasteners could result in the loss of the flap attachment, causing flap asymmetry and consequent reduced controllability of the airplane.

We are proposing this AD to detect and correct incorrectly oriented or fractured fasteners, which could result in detachment of the flap hinge-box and the flap surface, and consequent reduced controllability of the airplane.

Related Service Information Under 1 CFR Part 51

Bombardier has issued Alert Service Bulletins A600-0763, Revision 02, dated December 9, 2014, including Appendices 1 and 2, dated September 26, 2013; and A601-0627, Revision 02, dated December 9, 2014, including Appendices 1 and 2, dated September 26, 2013. The service information describes procedures for repetitive inspections of the fasteners on the inboard flap hinge-box forward fittings on both wings, and replacement of fasteners. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type designs.

Clarification of Intent of the MCAI

Paragraph C. of Canadian Emergency AD CF-2013-39R2, dated December 12, 2014, specifies to do the replacement on “both” wings. We have clarified with TCCA that the intent of paragraph C. of Canadian Emergency AD CF-2013-39R2, dated December 12, 2014, is that for airplanes on which any incorrectly oriented fastener, and no fractured or missing fastener, was detected, the replacement only needs to be done on the affected wing on which incorrectly oriented fasteners were found but none were found to be fractured.

The replacement of all forward and aft fasteners, regardless of condition or orientation, at wing station (WS) 76.50 and WS 127.25, on the affected wings, constitutes terminating action. Fasteners that have cracks or fractures were already addressed by the requirements of AD 2015-02-13, which is restated in this proposed AD.

Costs of Compliance

We estimate that this proposed AD affects 120 airplanes of U.S. registry.

The actions required by AD 2015-02-23, and retained in this proposed AD, take about 1 work-hour per product, at an average labor rate of $85 per work-hour. Based on these figures, the estimated cost of the actions that are required by AD 2015-02-23 is $85 per product.

We also estimate that it would take about 59 work-hours per product to comply with the basic requirements of this proposed AD. The average labor rate is $85 per work-hour. We have received no definitive data that would enable us to provide cost estimates for the parts cost. Based on these figures, we estimate the cost of this proposed AD on U.S. operators to be $601,800, or $5,015 per product.

In addition, we estimate that any necessary follow-on actions will take about 58 work-hours and require parts costing $753, for a cost of $5,683 per product. We have no way of determining the number of aircraft that might need this action.

According to the manufacturer, some of the costs of this proposed AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-02-23, Amendment 39-18092 (80 FR 5670, February 3, 2015), and adding the following new AD:

Bombardier, Inc.: Docket No. FAA-2016-5593; Directorate Identifier 2015-NM-184-AD.

(a) Comments Due Date

We must receive comments by June 6, 2016.

(b) Affected ADs

This AD replaces AD 2015-02-23, Amendment 39-18092 (80 FR 5670, February 3, 2015) (“AD 2015-02-23”). This AD affects AD 2014-03-17, Amendment 39-17754 (79 FR 9389, February 19, 2014) (“AD 2014-03-17”).

(c) Applicability

This AD applies to the Bombardier, Inc. airplanes identified in paragraphs (c)(1), (c)(2), and (c)(3) of this AD, certificated in any category.

(1) Bombardier, Inc. Model CL-600-1A11 (CL-600) airplanes, having serial numbers (S/Ns) 1004 through 1085 inclusive.

(2) Bombardier, Inc. Model CL-600-2A12 (CL-601) airplanes, having S/Ns 3001 through 3066 inclusive.

(3) Bombardier, Inc. Model CL-600-2B16 (CL-601-3A and CL-601-3R Variants) airplanes, having S/Ns 5001 through 5194 inclusive.

(d) Subject

Air Transport Association (ATA) of America Code 57, Wings.

(e) Reason

This AD was prompted by reports of incorrectly oriented fasteners. We are issuing this AD to detect and correct incorrectly oriented or fractured fasteners, which could result in detachment of the flap hinge-box and the flap surface, and consequent reduced controllability of the airplane.

(f) Compliance

Comply with this AD within the compliance times specified, unless already done.

(g) Retained Inspection on Airplanes Not Previously Inspected, With No Changes

This paragraph restates the requirements of paragraph (g) of AD 2015-02-23, with no changes. For airplanes that have not been inspected as required by paragraph (g) of AD 2014-03-17, as of February 18, 2015 (the effective date of AD 2015-02-23): Within 10 flight cycles after February 18, 2015, or 100 flight cycles after March 6, 2014 (the effective date of AD 2014-03-17), whichever occurs first, do a detailed visual inspection for incorrect orientation and any fractured or missing fastener heads of each inboard flap fastener of the hinge-box forward fitting at wing station (WS) 76.50 and WS 127.25, on both wings, in accordance with the Accomplishment Instructions of the applicable service information specified in paragraphs (g)(1) and (g)(2) of this AD. Accomplishing the inspection required by this paragraph terminates the requirements of paragraph (g) of AD 2014-03-17 for the inspected airplane only.

(1) For Model CL-600-1A11 (CL-600) airplanes having S/Ns 1004 through 1085 inclusive: Bombardier Alert Service Bulletin A600-0763, Revision 02, dated December 9, 2014, including Appendices 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(h) Retained Corrective Actions for Paragraph (g) of This AD, With Revised Paragraph (h)(2) of This AD

(1) This paragraph restates the requirements of paragraph (h)(1) of AD 2015-02-23, with no changes. If, during any inspection required by paragraph (g) of this AD, all fasteners are found correctly oriented and not fractured, and no fastener heads are missing (fasteners found intact): No further action is required by this AD.

(2) This paragraph restates the requirements of paragraph (h)(2) of AD 2015-02-23, with revised references to replacement paragraphs. If, during any inspection required by paragraph (g) of this AD, any fastener is found incorrectly oriented but no fasteners are fractured or are missing a fastener head (fasteners found intact), repeat the inspection required by paragraph (g) of this AD thereafter at intervals not to exceed 10 flight cycles until the replacements specified in paragraph (h)(3), (k), or (n) of this AD is accomplished.

(3) This paragraph restates the requirements of paragraph (h)(3) of AD 2015-02-23, with no changes. If, during any inspection required by paragraph (g) of this AD, any fastener is found fractured or has a missing fastener head: Before further flight, remove and replace all forward and aft fasteners (regardless of orientation or condition) at WS 76.50 and WS 127.25, on both wings, in accordance with the Accomplishment Instructions of the applicable service information specified in paragraphs (h)(3)(i) and (h)(3)(ii) of this AD, except as required by paragraph (m) of this AD. After accomplishing the replacements required by this paragraph, no further action is required by this AD.

(i) For Model CL-600-1A11 (CL-600) airplanes having S/Ns 1004 through 1085 inclusive: Bombardier Alert Service Bulletin A600-0763, Revision 02, dated December 9, 2014, including Appendices 1 and 2, dated September 26, 2013.

(ii) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(i) Retained Inspection for Airplanes Previously Inspected and Found To Have Incorrectly Oriented Fastener(s), With No Changes

This paragraph restates the requirements of paragraph (i) of AD 2015-02-23, with no changes. For airplanes on which an inspection required by paragraph (g) or (j) of AD 2014-03-17, has been done as of the effective date of this AD, and on which any incorrectly oriented fastener was found but no fasteners were fractured (fasteners found intact): Except as provided by paragraph (l) of this AD, within 10 flight cycles after February 18, 2015 (the effective date of AD 2015-02-23), or within 100 flight cycles after accomplishing the most recent inspection required by AD 2014-03-17, whichever occurs first, do a detailed visual inspection for any fractured or missing fastener heads of each inboard flap fastener of the hinge-box forward fitting at WS 76.50 and WS 127.25, on both wings. Do the inspection in accordance with the Accomplishment Instructions of the applicable service information specified in paragraphs (i)(1) and (i)(2) of this AD. Accomplishing the inspection required by this paragraph terminates the requirements of paragraphs (g) and (j) of AD 2014-03-17 for the inspected airplane only.

(1) For Model CL-600-1A11 (CL-600) airplanes having S/Ns 1004 through 1085 inclusive: Bombardier Alert Service Bulletin A600-0763, Revision 02, dated December 9, 2014, including Appendices 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(j) Retained Corrective Actions for Paragraph (i) of This AD, With Revised Reference to Additional, New Requirements

(1) This paragraph restates the requirements of paragraph (j)(1) of AD 2015-02-23, with revised reference to additional, new requirements. If, during any inspection required by paragraph (i) of this AD, no fasteners are found fractured or have missing fastener heads (fasteners are intact), repeat the inspection required by paragraph (i) of this AD thereafter at intervals not to exceed 10 flight cycles until the replacement specified in paragraph (j)(2), (k), or (n) of this AD is accomplished.

(2) This paragraph restates the requirements of paragraph (j)(2) of AD 2015-02-23, with no changes. If, during any inspection required by paragraph (i) of this AD, any fastener is found fractured or has a missing fastener head: Before further flight, remove and replace all forward and aft fasteners (regardless of orientation or condition) at WS 76.50 and WS 127.25, on both wings, in accordance with the Accomplishment Instructions of the applicable service information specified in paragraphs (j)(2)(i) and (j)(2)(ii) of this AD, except as required by paragraph (m) of this AD. After accomplishing the replacements required by this paragraph, no further action is required by this AD.

(i) For Model CL-600-1A11 (CL-600) airplanes having S/Ns 1004 through 1085 inclusive: Bombardier Alert Service Bulletin A600-0763, Revision 02, dated December 9, 2014, including Appendices 1 and 2, dated September 26, 2013.

(ii) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(k) Retained Optional Terminating Action for Incorrectly Oriented Fasteners, With No Changes

This paragraph restates the provisions of paragraph (k) of AD 2015-02-23, with no changes. Replacement of all forward and aft fasteners (regardless of orientation or condition) at WS 76.50 and WS 127.25, on both wings, terminates the requirements of this AD. The replacement must be done in accordance with the Accomplishment Instructions of the applicable service information specified in paragraphs (k)(1) and (k)(2) of this AD, except as provided by paragraph (m) of this AD. Doing the replacements specified in this paragraph terminates the requirements of paragraphs (g) and (j) of AD 2014-03-17, only for the airplane on which the replacement was done.

(1) For Model CL-600-1A11 (CL-600) airplanes having S/Ns 1004 through 1085 inclusive: Bombardier Alert Service Bulletin A600-0763, Revision 02, dated December 9, 2014, including Appendices 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(l) Retained Exception for Previously Replaced Fasteners, With No Changes

This paragraph restates the provisions of paragraph (l) of AD 2015-02-23, with no changes. Replacement of all fractured and incorrectly oriented forward and aft fasteners, as specified in paragraph (i) or (k) of AD 2014-03-17, if done before the effective date of this AD, is considered acceptable for compliance with the requirements of this AD.

(m) Retained Exception to the Service Information, With No Changes

This paragraph restates the requirements of paragraph (m) of AD 2015-02-23, with no changes. Where Bombardier Alert Service Bulletin A600-0763, Revision 02, dated December 9, 2014, including Appendices 1 and 2, dated September 26, 2013; and Bombardier Alert Service Bulletin A601-0627, Revision 02, dated December 9, 2014, including Appendices 1 and 2, dated September 26, 2013; specify to contact Bombardier for repair instructions, before further flight, repair using a method approved by the Manager, New York Aircraft Certification Office (ACO), FAA; or Transport Canada Civil Aviation (TCCA); or Bombardier's TCCA Design Approval Organization (DAO).

(n) New Requirement of This AD: Terminating Action

For airplanes on which any incorrectly oriented fastener, and no fractured or missing fastener, was detected during any inspection required by paragraph (g), (h)(2), (i), and (j)(1) of this AD: Within 24 months after the effective date of this AD, replace all forward and aft fasteners, regardless of condition or orientation, at WS 76.50 and WS 127.25, on affected wings, in accordance with the Accomplishment Instructions of the applicable service information specified in paragraphs (k)(1) and (k)(2) of this AD, except as provided by paragraph (m) of this AD. Doing the replacements specified in this paragraph terminates the requirements of this AD. Doing the replacements specified in this paragraph terminates the requirements of paragraphs (g) and (j) of AD 2014-03-17, only for the airplane on which the replacement was done.

(o) Credit for Previous Actions

This paragraph restates the provisions of paragraph (n) of AD 2015-02-23, with new credit for paragraph (n) of this AD. This paragraph provides credit for actions required by paragraphs (g), (h), (i), and (n) of this AD, if those actions were performed before the effective date of this AD using the applicable service information identified in paragraphs (o)(1) through (o)(4) of this AD.

(1) Bombardier Alert Service Bulletin A600-0763, including Appendices 1 and 2, dated September 26, 2013, which was previously incorporated by reference on March 6, 2014 (79 FR 9389, February 19, 2014).

(2) Bombardier Alert Service Bulletin A600-0763, Revision 01, dated February 26, 2014, including Appendices 1 and 2, dated September 26, 2013, which is not incorporated by reference in this AD.

(3) Bombardier Alert Service Bulletin A601-0627, including Appendices 1 and 2, dated September 26, 2013, which was previously incorporated by reference on March 6, 2014 (79 FR 9389, February 19, 2014).

(4) Bombardier Alert Service Bulletin A601-0627, Revision 01, dated February 26, 2014, including Appendices 1 and 2, dated September 26, 2013, which is not incorporated by reference in this AD.

(p) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, Engine and Propeller Directorate, FAA; or TCCA; or Bombardier, Inc.'s TCCA DAO. If approved by the DAO, the approval must include the DAO-authorized signature.

(q) Related Information

(1) Refer to Mandatory Continuing Airworthiness Information (MCAI) Canadian Emergency Airworthiness Directive CF-2013-39R2, dated December 12, 2014, for related information. This MCAI may be found in the AD docket on the Internet at http://www.regulations.gov by searching for and locating Docket No. FAA-2016-5593.

(2) For service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on April 8, 2016.
Michael Kaszycki,
Acting Manager, Transport Airplane Directorate, Aircraft Certification Service.

[FR Doc. 2016-08960 Filed 4-19-16; 8:45 am]

BILLING CODE 4910-13-P